ENVIRONMENTAL PROTECTION AGENCY

[OA-2004-0005, FRL-7803-1]

Agency Information Collection Activities: Proposed Collection; Comment Request; Pilot Test of the Pollution and Abatement Costs and Expenditures (PACE) Survey, EPA ICR Number 2158.01

AGENCY: Environmental Protection Agency (EPA).

ACTION: Notice.

SUMMARY: In compliance with the Paperwork Reduction Act (44 U.S.C. 3501 et seq.), this document announces that EPA is planning to submit a proposed Information Collection Request (ICR) to the Office of Management and Budget (OMB). This is a request for a new collection. Before submitting the ICR to OMB for review and approval, EPA is soliciting comments on specific aspects of the proposed information collection as described below.

DATES: Comments must be submitted on or before October 18, 2004.

ADDRESSES: Submit your comments, referencing docket ID number OA-2004-0005, to EPA online using EDOCKET (our preferred method), by e-mail to oei.docket@epa.gov, or by mail to: EPA Docket Center, Environmental Protection Agency, Office of Environmental Information Docket, Mail Code 2822T, 1200 Pennsylvania Ave., NW., Washington, DC 20460.

FOR FURTHER INFORMATION CONTACT: Dr. Kelly Maguire, Office of Policy, Economics, and Innovation, National Center for Environmental Economics, MC 1809T, Environmental Protection Agency, 1200 Pennsylvania Ave., NW., Washington, DC 20460; telephone number: (202) 566-2273; fax number: (202) 566-2339; e-mail address: maguire.kelly@epa.gov.

SUPPLEMENTARY INFORMATION: EPA has established a public docket for this ICR under Docket ID number OA-2004-0005, which is available for public viewing at the Office of Environmental Information Docket in the EPA Docket Center (EPA/DC), EPA West, Room B102, 1301 Constitution Ave., NW., Washington, DC. The EPA Docket Center Public Reading Room is open from 8:30 a.m. to 4:30 p.m., Monday through Friday, excluding legal holidays. The telephone number for the Reading Room is (202) 566-1744, and the telephone number for the Office of Environmental Information Docket is (202) 566-1752. An electronic version of the public docket is available through EPA Dockets (EDOCKET) at http://www.epa.gov/edocket. Use EDOCKET to obtain a copy of the draft collection of information, submit or view public comments, access the index listing of the contents of the public docket, and to access those documents in the public docket that are available electronically. Once in the system, select “search,” then key in the docket ID number identified above.

Any comments related to this ICR should be submitted to EPA within 60 days of this notice. EPA's policy is that public comments, whether submitted electronically or in paper, will be made available for public viewing in EDOCKET as EPA receives them and without change, unless the comment contains copyrighted material, CBI, or other information whose public disclosure is restricted by statute. When EPA identifies a comment containing copyrighted material, EPA will provide a reference to that material in the version of the comment that is placed in EDOCKET. The entire printed comment, including the copyrighted material, will be available in the public docket. Although identified as an item in the official docket, information claimed as CBI, or whose disclosure is otherwise restricted by statute, is not included in the official public docket, and will not be available for public viewing in EDOCKET. For further information about the electronic docket, see EPA's Federal Register notice describing the electronic docket at 67 FR 38102 (May 31, 2002), or go to http://www.epa.gov./edocket.

Affected entities: Entities potentially affected by this action are manufacturing, mining, and electric utility operations.

Title: Pilot Test of the Pollution and Abatement Costs and Expenditures (PACE) Survey.

Abstract: The Pollution Abatement Costs and Expenditures (PACE) Survey was conducted by the U.S. Bureau of the Census annually between 1973 and 1994 (excluding 1987) and again in 1999. This pilot test is to evaluate a revised PACE survey instrument which will be reinstituted in 2006.

The data from the PACE Survey are mainly used by the U.S. Environmental Protection Agency (EPA) to better satisfy legislative and executive requirements to track the costs of regulatory programs and to provide aggregate national statistics on costs and expenditures for pollution abatement activities. Other users of these aggregate data include trade associations, manufacturers, marketing and research companies, universities, financial and environmental institutions, other federal agencies, state and local governments, and environmental reporters.

This information collection request is to conduct a pilot of the redesigned survey instrument being considered for use in reinstating the annual PACE Survey conducted by the Bureau of the Census. The survey collects information on facility-specific costs and expenditures for pollution abatement activities among manufacturing, mining, and electric utility facilities. Pollution abatement includes treatment, recycling, waste disposal, pollution prevention, and other pollution management activities such as monitoring and testing and record-keeping and reporting.

Participation in the pilot test of the PACE survey will be voluntary. The findings from the pilot test will be used to develop the final version of the survey that will be required by law (Title 13, U.S. Code). The survey responses from the pilot test will only be used to validate the redesigned survey instrument.

An agency may not conduct or sponsor, and a person is not required to respond to, a collection of information unless it displays a currently valid OMB control number. The OMB control numbers for EPA's regulations in 40 CFR are listed in 40 CFR part 9.

The EPA would like to solicit comments to:

(i) Evaluate whether the proposed collection of information is necessary for the proper performance of the functions of the Agency, including whether the information will have practical utility;

(ii) Evaluate the accuracy of the Agency's estimate of the burden of the proposed collection of information, including the validity of the methodology and assumptions used;

(iii) Enhance the quality, utility, and clarity of the information to be collected; and

(iv) Minimize the burden of the collection of information on those who are to respond, including through the use of appropriate automated electronic, mechanical, or other technological collection techniques or other forms of information technology, e.g., permitting electronic submission of responses.

Burden Statement: The public reporting burden for this collection of information is estimated to average 4.5 hours per response.

Estimated Number of Respondents: 1000.

Estimated Number of Responses per Respondent: 1.

Estimated Total Annual Burden on Respondents: 4500 hours.

Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Dated: August 5, 2004.
Al McGartland,
Director, National Center for Environmental Economics, Office of Policy, Economics, and Innovation.

[FR Doc. 04-19048 Filed 8-18-04; 8:45 am]

BILLING CODE 6560-50-P